ENVIRONMENTAL PROTECTION AGENCY

[ER-FRL-6616-3]

Environmental Impact Statements; Notice of Availability

Responsible Agency: Office of Federal Activities, General Information (202) 564-7167 or www.epa.gov/oeca/ofa.

Weekly receipt of Environmental Impact Statements

Filed March 05, 2001 Through March 09, 2001

Pursuant to 40 CFR 1506.9.

EIS No. 010069, Final EIS, AFS, ID, East Slate Project, Harvesting Timber, Implementation, Idaho Panhandle National Forests, St. Joe Ranger District, Shoshone County, ID, Wait Period Ends: April 16, 2001, Contact: Pete Ratcliffe (208) 245-6071.

EIS No. 010070, Draft EIS, AFS, OR, South Fork Burnt River Ranger Planning Area, Development of Five New Allotment Management Plans (AMPS), Wallowa-Whitman National Forest, Unity Ranger District, Baker County, OR, Comment Period Ends: April 30, 2001, Contact: Jean Lavell (541) 446-3351.

EIS No. 010071, Draft EIS, AFS, CA, Fuels Reduction for Community Protection Phase 1 Project in the Six Rivers National Forest, Proposes to Reduce Fuels in High Severity Burned Stands, Lower Trinity Ranger District, Humboldt and Trinity Counties, CA, Comment Period Ends: April 30, 2001, Contact: David Webb (707) 457-3131.

EIS No. 010072, Draft EIS, USA, MD, Fort George G. Meade Future Development and Operations of New Administrative and Support Buildings, Anne Arundel and Howard Counties, MD, Comment Period Ends: April 30, 2001, Contact: Jim Gebhardt (301) 677-9365.

EIS No. 010073, Draft Supplement, FRC, PA, NJ, NY, Millennium Pipeline Project, Updated Information, Construct and Operate an Interstate Natural Gas Pipeline from United States to Canada, including PA, NY and NJ, Comment Period Ends: April 30, 2001, Contact: Paul McKee (202) 208-2474.

EIS No. 010074, Final Supplement, NOA, FL, Florida Keys National Sanctuary Comprehensive Management Plan, New Information concerning the Establishment of the Tortugas Marine Reserves in Seven Fishery Management Plan Amendments in the Gulf of Mexico, Wait Period Ends: April 16, 2001, Contact: Wayne Swingle (813) 228-2815.

EIS No. 010075, Final EIS, AFS, CO, Upper Blue Stewardship Project, Implementation of Vegetation Management, Travel Management, Designation of Dispersed Camping Sites, White River National Forest, Dillon Ranger District, Summit County, CO, Wait Period Ends: April 16, 2001, Contact: Gwenan Poirier (970) 262-3499.

EIS No. 010076, Draft EIS, COE, NB, Platte West Water Production Facilities, Proposed New Drinking Water Production Facilities, Metropolitan Utilities District, Omaha District, Douglas, Saunders and Sarpy Counties, NE, Comment Period Ends: April 30, 2001, Contact: Rebecca Latka (402) 221-4602.

EIS No. 010077, Final EIS, TVA, MS, Kemper County Combustion Turbine Plant, Construction and Operation, Addition of Electric General Peaking Capacity at Greenfield Sites, NPDES Permit, Kemper County, MS, Wait Period Ends: April 16, 2001, Contact: Roy V. Carter (256) 386-2832.

EIS No. 010078, Draft Supplement, SFW, NY, VT, Lake Champlain Sea Lamprey Control Long-Term Program, To Achieve Fish Population, Recreational Fishery and Economic Benefits Associated with Reduced Sea Lamprey Predation Implementation, Clinton, Essex and Washington Counties, NY and Addison and Chittenden Counties, VT, Comment Period Ends: April 30, 2001, Contact: David C. Nettles (802) 872-0629.

EIS No. 010079, Final EIS, IBR, ID, Arrowrock Dam Outlet Works Rehabilitation, Construction and Operation, To Remove 10 Lower Level Ensign Valves and Replace with 10 Clamshell Gates, Boise River, City of Boise, ID, Wait Period Ends: April 16, 2001, Contact: John Tiedeman (208) 378-5034.

EIS No. 010080, Final EIS, FTA, NY, East Side Access Project, Improve Access to Manhattan's East Side for Commuters in the Long Island Transportation Corridor (LITC), MTA Long Island Rail Road (LIRR), Funding, Nassau, Suffolk, New York, Queens and Bronx Counties, NY, Wait Period Ends: April 16, 2001, Contact: Anthony G. Carr (212) 668-2175.

EIS No. 010081, Final EIS, COE, TX, NM, Programmatic—Fort Bliss Mission and Real Property Master Plan, Revised Land Use and Enhance Management of the Land, Airspace and Infrastructure, El Pasco County, TX and Dona Ana and Otero Counties, NM, Wait Period Ends: April 16, 2001, Contact: Vicki Hamilton (915) 568-2774.

Amended Notices

EIS No. 010013, Draft EIS, AFS, AK, Threemile Timber Sale, Implementation, Petersburg Ranger District, Tongass National Forest, AK, Comment Period Ends: June 26, 2001, Contact: Everett Kissinger (907) 772-5860. Revision of FR notice published on 01/19/2001: CEQ Comment Date has been Extended from 03/12/2001 to 06/26/2001.

EIS No. 010014, Draft EIS, AFS, AK, Gravina Island Timber Sale, Implementation, Timber Harvest and Related Activities, Ketchikan-Misty Fiords Ranger District, Tongass National Forest, AK, Comment Period Ends: June 26, 2001, Contact: Susan Marthaller (907) 225-2148. Revision of FR notice published on 01/19/2001: CEQ Comment Date has been extended from 03/19/2001 to 06/26/2001.

Dated: March 13, 2001.
Joseph C. Montgomery,
Director, NEPA Compliance Division, Office of Federal Activities.

[FR Doc. 01-6602 Filed 3-15-01; 8:45 am]

BILLING CODE 6560-50-P